ENVIRONMENTAL PROTECTION AGENCY

[EPA-HQ-OLEM-2017-0657; FRL-9992-46-OLEM]

RIN 2050-ZA11

Planning for Natural Disaster Debris Guidance

AGENCY: Environmental Protection Agency (EPA).

ACTION: Notice of availability.

SUMMARY: The U.S. Environmental Protection Agency (EPA) is announcing the availability of a final guidance entitled, Planning for Natural Disaster Debris. The Planning for Natural Disaster Debris guidance is intended to assist communities in planning for debris management before a natural disaster occurs (also referred to as “pre-incident debris management planning”). This guidance revises EPA's existing guidance document on planning for natural disaster debris that was published in 2008 under the same name. Pre-incident planning can significantly aid decision-making during a response and enhance a community's resiliency. Pre-incident planning can help communities recover faster, spend less money on cleanup and debris/waste management, and use fewer resources to rebuild and recover.

DATES: The announcement of the guidance is published in the Federal Register on April 24, 2019.

ADDRESSES: EPA has established a docket for this action under Docket ID No. EPA-HQ-OLEM-2017-0657. All documents in this docket are listed in the www.regulations.gov website. Although listed in the index, some information is not publicly available, e.g., confidential business information (CBI) or other information for which disclosure is restricted by statute. Certain other material, such as copyrighted material, is not placed on the internet and will be publicly available only in hard copy form. Publicly available docket materials are available either electronically at www.regulations.gov or in hard copy at the EPA Docket Center Reading Room. Please see https://www.epa.gov/dockets/epa-docket-center-reading-room or call (202) 566-1744 for more information on the Docket Center Reading Room.

FOR FURTHER INFORMATION CONTACT: Melissa Kaps, Office of Resource Conservation and Recovery (5304P), Environmental Protection Agency, 1200 Pennsylvania Avenue NW, Washington, DC 20460; telephone number: 703-308-6787; email address: kaps.melissa@epa.gov.

SUPPLEMENTARY INFORMATION:

I. General Information

A. Planning for Natural Disaster Debris Guidance

The U.S. Environmental Protection Agency's (EPA's) final Planning for Natural Disaster Debris guidance provides planning suggestions and considerations to assist the whole community (i.e., all governmental, private, nonprofit, community, and other stakeholders) in preparing for debris management before a natural disaster occurs. Communities that may benefit from the advice presented in this document include those that are currently without a debris management plan, are in the beginning stages of the debris management planning process, or have existing debris management plans that are not comprehensive or have not been updated with new information. Plans should be updated regularly to keep the information current (e.g., record reductions in existing disposal capacity, include innovative reuse or recycling opportunities), as well as exercised to ensure that the whole community remains familiar with their roles and responsibilities in the implementation of the disaster debris plan.

Updating the 2008 version of EPA's Planning for Natural Disaster Debris, this guidance adds information drawn from communities' experiences with natural disasters, including hurricanes, earthquakes, tornadoes, volcanoes, floods, wildfires, and winter storms, and provides more planning recommendations, resources, and lessons learned for managing natural disaster debris. Also, this guidance walks through EPA's pre-incident debris management planning process. This process has four steps to help prepare communities for effective debris management: (1) Conduct pre-planning activities; (2) develop a comprehensive pre-incident debris management plan; (3) keep the debris management plan updated; and (4) implement the debris management plan during a natural disaster.

Natural disasters generate large amounts of debris that communities must manage to fully recover from the disaster. Debris management is often one of the biggest costs for a response, and recovery is not complete until all debris has been managed. Pre-incident debris management planning can significantly aid decision-making during a natural disaster by allowing important analyses and considerations to be made in advance, i.e., not during a disaster response. Pre-incident planning can also enhance a community's resiliency by, for example, identifying (and mitigating) potential debris sources in advance. In the event of a disaster, a more resilient community generates less debris to manage and contains fewer hazardous materials that may pose an increased risk to human health and the environment if released. Resilient communities recover faster, spend less money on cleanup and debris management, and use fewer resources to rebuild and recover. Effective planning addresses source reduction and hazard mitigation activities to reduce the amount and toxicity of debris generated by a natural disaster; strategies for reuse and recycling of materials to minimize the environmental and economic impact of debris management activities; and issues and considerations beyond initial debris removal [for example, characterizing and processing (e.g., volume reduction, refrigerant removal) debris for proper management, tracking debris from the original deposited point to its final destination, communicating with the public about debris collection and other management activities]. For these reasons, EPA believes it is critical that communities include debris management planning in their overall preparation for natural disasters.

A copy of the final guidance can be found on EPA's website at https://www.epa.gov/homeland-security-waste/guidance-about-planning-natural-disaster-debris.

Dated: April 4, 2019.
Barnes Johnson,
Director, Office of Resource Conservation and Recovery.

[FR Doc. 2019-08305 Filed 4-23-19; 8:45 am]

BILLING CODE 6560-50-P